DEPARTMENT OF JUSTICE

Notice of Lodging of Consent Decree Under the Comprehensive Environmental Response, Compensation, and Liability Act

Notice is hereby given that on May 3, 2010, a proposed consent decree in United States v. T. Frank Flippo & Sons, LLC, Civil Action No. 3:10-cv-292 was lodged with the United States District Court for the Eastern District of Virginia.

In this action the United States sought the implementation of land use restrictions at the HH Burn Pit Superfund Site located in Hanover, Virginia. The consent decree would resolve the litigation in exchange for implementation of land use restrictions at the site, the filing of a notice to successors in title, and a commitment by the defendant to retain a restrictive easement in the event that defendant conveys the property.

The Department of Justice will receive for a period of thirty (30) days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States v. T. Frank Flippo & Sons, LLC D.J. Ref. 90-11-3-1408/3.

The consent decree may be examined at the Office of the United States Attorney, 600 East Main Street, Richmond, Virginia, and at U.S. EPA Region 3, 1650 Arch Street, Philadelphia, Pennsylvania. During the public comment period, the consent decree, may also be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.00 (25 cents per page reproduction cost) payable to the U.S. Treasury or, if by email or fax, forward a check in that amount to the Consent Decree Library at the stated address.

Maureen Katz,
Assistant Chief, Environmental, Enforcement Section, Environment and Natural Resources Division.

[FR Doc. 2010-11947 Filed 5-18-10; 8:45 am]

BILLING CODE 4410-15-P